DEPARTMENT OF LABOR

Employment and Training Administration

Employment and Training Administration Program Year 2024 Workforce Innovation and Opportunity Act Section 167, National Farmworker Jobs Program Preliminary State Allotments

AGENCY: Employment and Training Administration, Labor.

ACTION: Notice; request for comments.

SUMMARY: This Notice announces preliminary planning estimates for the National Farmworker Jobs Program (NFJP) Career Services and Training grants for Program Year (PY) 2024. This Notice also explains the allotment process that ETA will follow in the event that it does not award funds to any grantee in a particular state in the PY 2024 competition.

DATES: The PY 2024 NFJP allotments become effective for the grant period that begins July 1, 2024. Written comments on this notice are invited and must be received on June 25, 2024.

ADDRESSES: Comments are accepted via email to NFJP@dol.gov. Please enter “PY24 National Farmworker Jobs Program State Allotments Public Comment” in the subject line of the email.

Comments: The Department will retain all comments on this notice and will release them upon request via email to any member of the public. The Department will make copies of this notice available, upon request, in large print, Braille, and electronic file. The Department also will consider providing the notice in other formats upon request. To obtain the notice in an alternative format, contact the Department using the information provided above. The Department will retain all comments received without making any changes to the comments, including any personal information provided. The Department therefore cautions commenters not to include their personal information such as Social Security Numbers, personal addresses, telephone numbers, and email addresses in their comments; this information would be released with the comment if the comments are requested. It is the commenter's responsibility to safeguard his or her information.

FOR FURTHER INFORMATION CONTACT: Steven Rietzke, Chief, Division of National Programs, Tools and Technical Assistance, Office of Workforce Investment, at 202-693-3980. (This is not a toll-free number.) If you are deaf, hard of hearing, or have a speech disability, please dial 7-1-1 to access telecommunications relay services.

SUPPLEMENTARY INFORMATION: This notice is published pursuant to Section 182(d) of the Workforce Innovation and Opportunity Act, Prompt Allotment of Funds.

I. Background

The Department has announced the availability of funding for NFJP grants through the PY 2024 Funding Opportunity Announcement (FOA). In distributing funds, the Employment and Training Administration (ETA) calculates allotments for NFJP Career Services and Training grantees through an administrative formula. This notice provides preliminary planning estimates for the NFJP Career Services and Training grants. The allotments are based on the funds appropriated in the Further Consolidated Appropriations Act, 2024, Public Law 118-47 (from this point forward will be referred to as the “the Act”).

PY 2024 funding levels, to use for planning purposes, are based on the full-year funding levels for this program in PY 2023 as indicated in Federal Register notice 88 FR 31279, May 16, 2023, pro-rated based on the availability of funding for NFJP formula grants in PY 2024. In PY 2024, Congress has provided $90,134,000 for formula grants (of which $90,048,000 is available for formula grants after setting aside $86,000 for program integrity). While Congress appropriated the same amount for formula grants in PY 2023 and PY 2024, ETA is setting aside less funding in PY 2024 for program integrity. Accordingly, as noted above and explained further below, ETA is calculating state allotment amounts by pro-rating the PY 2024 allotment amounts based on the results of the PY 2023 formula and the updated availability of formula funding after set-asides in PY 2024.

In the competition for NFJP Career Services and Training grants, if the Department does not receive any competitive applications from eligible applicants for a state, the Department does not plan to reopen the competition to seek prospective applicants to provide services in a state. In determining a course of action for a given state, the Department will follow the procedures described in the Funding Opportunity Announcement for the competition. For any state where the Department determines it will not award an NFJP grant under the PY 2024 competition, it will instead redistribute the state's funds among the grants awarded to other state service areas, distributing funds proportionally based on the NFJP allotment formula results for PY 2024.

As background, the PY 2024 appropriation also provides $6,591,000 for migrant and seasonal farmworker housing (of which $6,585,000 was allotted after $6,000 was set aside for program integrity and of which not less than 70 percent shall be for permanent housing), and another $671,000 was set aside for discretionary purposes. The Housing grant allotments are distributed as a result of a competition and are not the subject of this Notice.

This notice includes the following sections:

• Section II of this notice provides a discussion of the data used to populate the formula.

• Section III describes the prorated method for allotments for the implementation year starting in PY 2024.

• Section IV describes minimum funding provisions to address State service areas that would receive less than $60,000.

• Section V provides preliminary state allotments for PY 2024.

II. Description of Data Files and Allotment Formula

The formula's original methodology is described in the Federal Register notice 64 FR 27390, May 19, 1999. In PY 2018, ETA incorporated two modifications to the allotment formula to provide more accurate estimates of each state service area's relative share of persons eligible for the program. The formula also used updated data from each of the four data files serving as the basis of the formula since 1999. The revised formula methodology is described in the Federal Register notice 83 FR 32151, July 11, 2018. In PY 2021, ETA incorporated two modifications to the allotment formula. These modifications are described in Federal Register notice 86 FR 32063, June 16, 2021. The Federal Register notices are accessible at https://www.federalregister.gov/.

Like the PY 23 appropriation, the PY 24 appropriation includes the language expanding eligibility to farmworkers who are in families with total family incomes at or below 150 percent of the poverty line rather than the higher of the poverty line or 70 percent of the lower living standard income level. Because the PY 2024 allotments will be prorated based on the results of the PY 2023 formula, the PY 2024 allotment results continue to reflect modifications to the formula related to this expansion. ETA will subsequently revise relevant guidance regarding the definition of “low-income individual” as needed if the same expansion of eligibility is not included in subsequent appropriations.

III. Description of the Prorated Method for Allotments

The Department will use a prorated method for PY 2024 allotments. For PY 2024, each state service area will receive a prorated allotment, which is based on their PY 2023 allotment percentage, as applied to the PY 2024 formula funds available. ETA anticipates updating data and reimplementing a staged stop loss/stop gain in PY 2026. ETA will explain its approach to calculating allotments in PY 2026 in a subsequent notice at a later date.

IV. Minimum Funding Provisions

A state service area which would receive less than $60,000 by application of the formula will, at the option of the DOL, receive no allotment or, if practical, be combined with another adjacent state service area. The Department has determined that funding below $60,000 is insufficient for sustaining an independently administered program.

V. Program Year 2024 Preliminary State Allotments

The planning estimates set forth in the Table appended to this notice reflect the distribution resulting from the prorated methodology described above.

For purposes of illustrating the effects of using the prorated methodology, columns 2 and 3 show the state allotments for PY 2023 (which incorporated an 85 percent stop loss) and prorated method for PY 2024. The dollar difference between PY 2023 and PY 2024 allotments is shown in column 4. The percent difference is reported in column 5.

U.S. Department of Labor, Employment and Training Administration, National Farmworker Jobs Program—Career Services and Training Grants
[Program year 2024 preliminary state allotments]
State | PY 2023 85% stop loss/ 150% stop gain | PY 2024 Prorated no stop loss/stop gain | $ Difference | % Difference
Total | $90,032,000 | $90,048,000 | $16,000 | 0.02
Alabama | 800,937 | 801,079 | 142 | 0.02
Alaska |  |  |  | 0.00
Arizona | 2,634,816 | 2,635,284 | 468 | 0.02
Arkansas | 1,305,806 | 1,306,038 | 232 | 0.02
California | 23,902,460 | 23,906,708 | 4,248 | 0.02
Colorado | 1,819,486 | 1,819,809 | 323 | 0.02
Connecticut | 548,535 | 548,632 | 97 | 0.02
Delaware | 169,171 | 169,201 | 30 | 0.02
Dist of Columbia |  |  |  | 0.00
Florida | 3,266,891 | 3,267,472 | 581 | 0.02
Georgia | 1,812,785 | 1,813,107 | 322 | 0.02
Hawaii | 247,248 | 247,292 | 44 | 0.02
Idaho | 2,401,585 | 2,402,012 | 427 | 0.02
Illinois | 2,001,796 | 2,002,152 | 356 | 0.02
Indiana | 1,345,052 | 1,345,291 | 239 | 0.02
Iowa | 1,922,448 | 1,922,790 | 342 | 0.02
Kansas | 1,360,695 | 1,360,937 | 242 | 0.02
Kentucky | 864,671 | 864,825 | 154 | 0.02
Louisiana | 856,431 | 856,583 | 152 | 0.02
Maine | 446,523 | 446,602 | 79 | 0.02
Maryland | 570,199 | 570,300 | 101 | 0.02
Massachusetts | 561,137 | 561,237 | 100 | 0.02
Michigan | 2,269,118 | 2,269,521 | 403 | 0.02
Minnesota | 1,721,315 | 1,721,621 | 306 | 0.02
Mississippi | 953,815 | 953,985 | 170 | 0.02
Missouri | 1,334,410 | 1,334,647 | 237 | 0.02
Montana | 765,413 | 765,549 | 136 | 0.02
Nebraska | 1,364,634 | 1,364,877 | 243 | 0.02
Nevada | 245,041 | 245,085 | 44 | 0.02
New Hampshire | 159,717 | 159,745 | 28 | 0.02
New Jersey | 842,456 | 842,606 | 150 | 0.02
New Mexico | 1,168,559 | 1,168,767 | 208 | 0.02
New York | 2,373,732 | 2,374,154 | 422 | 0.02
North Carolina | 2,179,435 | 2,179,822 | 387 | 0.02
North Dakota | 805,556 | 805,699 | 143 | 0.02
Ohio | 1,572,744 | 1,573,024 | 280 | 0.02
Oklahoma | 958,308 | 958,478 | 170 | 0.02
Oregon | 2,415,002 | 2,415,431 | 429 | 0.02
Pennsylvania | 1,928,391 | 1,928,734 | 343 | 0.02
Puerto Rico | 2,112,901 | 2,113,276 | 375 | 0.02
Rhode Island | 70,975 | 70,988 | 13 | 0.02
South Carolina | 718,772 | 718,900 | 128 | 0.02
South Dakota | 728,488 | 728,617 | 129 | 0.02
Tennessee | 686,894 | 687,016 | 122 | 0.02
Texas | 4,788,352 | 4,789,203 | 851 | 0.02
Utah | 715,651 | 715,778 | 127 | 0.02
Vermont | 224,029 | 224,069 | 40 | 0.02
Virginia | 811,392 | 811,536 | 144 | 0.02
Washington | 4,935,737 | 4,936,614 | 877 | 0.02
West Virginia | 119,307 | 119,328 | 21 | 0.02
Wisconsin | 1,881,174 | 1,881,508 | 334 | 0.02
Wyoming | 342,010 | 342,071 | 61 | 0.02

José Javier Rodríguez,
Assistant Secretary for Employment and Training Administration, Labor.

[FR Doc. 2024-12701 Filed 6-10-24; 8:45 am]

BILLING CODE P